DEPARTMENT OF THE TREASURY

Submission for OMB Review; Comment Request

April 12, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before May 20, 2002, to be assured of consideration.

Internal Revenue Service (IRS)

OMB Number: 1545-1031.

Form Number: IRS Form 8697.

Type of Review: Extension.

Title: Interest Computation Under the Look-Back Method for Completed Long-Term Contracts.

Description: Taxpayers required to account for all or part of any long-term contract entered into after February 28, 1986, under the percentage of completion method must use Form 8697 to compute and report interest due or to be refunded under Internal Revenue Code (IRC) section 460(b)(3). The IRS uses Form 8697 to determine if the interest has been figured correctly. Taxpayers may compute interest using the actual method (Part I) or the Simplified Marginal Impact Method (Part II).

Respondents: Business or other for-profit individuals or households.

Estimated Number of Respondents/Recordkeepers: 5,000.

Estimated Burden Hours Per Respondent/Recordkeeper:

| Part I | Part II
Recordkeeping | 8 hr., 36 min | 9 hr., 19 min
Learning about the law or the form | 2 hr., 22 min | 2 hr., 5 min
Preparing, copying, assembling and sending the form to the IRS | 2 hr., 37 min | 2 hr., 19 min

Frequency of Response: Annually.

Estimated Total Reporting/Recordkeeping Burden: 68,340 hours.

Clearance Officer: Glenn Kirkland, Internal Revenue Service, Room 6411-03, 1111 Constitution Avenue, NW, Washington, DC 20224.

OMB Reviewer: Alexander T. Hunt, Office of Management and Budget, Room 10202, New Executive Office Building, Washington, DC 20503. (202) 395-7860.

Lois K. Holland,
Departmental Reports, Management Officer.

[FR Doc. 02-9575 Filed 4-18-02; 8:45 am]

BILLING CODE 4830-01-P